DEPARTMENT OF DEFENSE

Department of the Navy

Notice of Availability of Government-Owned Inventions; Available for Licensing

AGENCY: Department of the Navy, DOD.

ACTION: Notice.

SUMMARY: The following inventions are assigned to the U.S. Government as represented by the Secretary of the Navy and are available for licensing by the Department of the Navy.

U.S. Patent Application Serial Number 10/318,672 entitled “Non-Lethal Flash Grenade.” U.S. Patent Application Serial Number 10/337,318 entitled “Large Package X-Ray Apparatus and Method.” U.S. Patent 6,371,200 B1 entitled “Perforated Heat Sink.” U.S. Patent 6,401,591 B1 entitled “Neutralization Chemical Injection Penetrator.” U.S. Patent Application Serial Number 10/021,700 entitled “Micromechanical Shock Sensor.” U.S. Patent 6,508,136 entitled “High Output Differential Pressure Flow Sensor.”

ADDRESSES: Requests for copies of the Patent Application cited should be directed to the Naval Surface Warfare Center, Code 05T, 101 Strauss Avenue, Indian Head, MD 20640-5035.

FOR FURTHER INFORMATION CONTACT: Dr. J. Scott Deiter, Head, Technology Transfer Office, Naval Surface Warfare Center Indian Head Division, Code 05T, 101 Strauss Avenue, Indian Head, MD 20640-5035, telephone 301-744-6111.

Dated: June 24, 2003.
E.F. McDonnell,
Major, U.S. Marine Corps, Federal Register Liaison Officer.

[FR Doc. 03-16996 Filed 7-3-03; 8:45 am]

BILLING CODE 3810-FF-P